ENVIRONMENTAL PROTECTION AGENCY

[EPA-HQ-OAR-2020-0403; FRL-10013-93-OAR]

Proposed Information Collection Request; Comment Request; National Emission Standards for Hazardous Air Pollutants (NESHAP) for Radon Emissions From Operating Mill Tailings (40 CFR Part 61, Subpart W) (Renewal)

AGENCY: Environmental Protection Agency (EPA).

ACTION: Notice.

SUMMARY: The Environmental Protection Agency is planning to submit an information collection request (ICR), “National Emission Standards for Hazardous Air Pollutants (NESHAP) for Radon Emissions from Operating Mill Tailings (Renewal)” (EPA ICR No. 2464.03, OMB Control No. 2060-0706) to the Office of Management and Budget (OMB) for review and approval in accordance with the Paperwork Reduction Act. Before doing so, the EPA is soliciting public comments on specific aspects of the proposed information collection as described below. This is a proposed extension of the ICR, which is currently approved through December 31, 2020. An Agency may not conduct, or sponsor and a person is not required to respond to a collection of information unless it displays a currently valid OMB control number.

DATES: Comments must be submitted on or before October 19, 2020.

ADDRESSES: Submit your comments, referencing Docket ID No. EPA-HQ-OAR-2020-0403, online using www.regulations.gov (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

FOR FURTHER INFORMATION CONTACT: Jonathan P. Walsh, Radiation Protection Division, Office of Radiation and Indoor Air, Mail Code 6608T, Environmental Protection Agency, 1200 Pennsylvania Ave. NW, Washington, DC 20460; telephone number: (202) 343-9238; fax number: (202) 343-2304; email address: walsh.jonathan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about the EPA's docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: On January 17, 2017, the EPA issued final revisions to the NESHAP for Radon Emissions from Operating Mill Tailings, codified at 40 CFR part 61, subpart W. These revisions were promulgated as part of a review of pre-1990 NESHAPs pursuant to Clean Air Act Section 112(q)(1). Included in the final revisions was a requirement that owners and operators of uranium recovery facilities maintain specific records pertaining to the design, construction and operation of the uranium tailings impoundments, both conventional and non-conventional, and heap leach piles. These records are to be retained at the facility and contain information regarding the approved design of the impoundments and/or heap leach pile, including but not limited to, all tests performed that prove the liner is compatible with the material(s) being placed on the liner. For non-conventional impoundments this requirement also includes written and digital photographic records showing compliance with the requirement to maintain liquid in the impoundment such that any solid materials in the impoundment are not visible above the liquid level. Apart from the required design documents (per 40 CFR part 61, subpart A), records regarding the inspections to determine the liquid retention requirement for non-conventional ponds were new requirements for collection of information that is not covered under an already existing ICR for radionuclide NESHAPS, EPA Number 1100.16, OMB Number 2060-0191.

Information collected is used by the Agency to ensure that public health continues to be protected from the hazards of airborne radionuclides by compliance with these standards. Compliance is demonstrated through inspection. All facilities are required to maintain their records for the operational lifetime of the facility. In some cases, they report results to the EPA.

Form Numbers: None.

Respondents/affected entities: The North American Industry Classification System (NAICS) codes of facilities associated with the activity of the respondents are: Uranium-Radium-Vanadium Ore Mining—212291.

Respondent's obligation to respond: Mandatory (CAA, Sec. 112; 40 CFR part 61).

Estimated number of respondents: 9 (total).

Frequency of response: Reporting (submission of digital photographs) at least monthly; more frequent or one-time collection of records, depending on activity.

Total estimated burden: 1,806 hours (per year). Burden is defined at 5 CFR 1320.03(b)

Total estimated cost: $137,856 (per year), includes $2,400 annualized capital or operation & maintenance costs.

Changes in Estimates: There is a decrease of 5,347 hours in the total estimated respondent burden compared with the ICR currently approved by OMB. This decrease is attributable to a reduction in the number of estimated respondents. The initial ICR identified a larger universe of respondents that could potentially be subject to the newly defined requirements, many of which were (and remain) in the process of licensing and development. It is estimated that no additional facilities will become subject to these requirements in the next few years.

Dated: August 14, 2020.
Richard White,
Associate Director, Radiation Protection Division.

[FR Doc. 2020-18206 Filed 8-19-20; 8:45 am]

BILLING CODE 6560-50-P